NUCLEAR REGULATORY COMMISSION

[Docket Nos. 52-012-COL and 52-013-COL; ASLBP No. 09-883-06-COL-BD01]

South Texas Project Nuclear Operating Company; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the appeal from the NRC Staff's determination to deny requests for access to sensitive unclassified non-safeguards information (SUNSI) in the following proceeding:

South Texas Project Nuclear Operating Company

(South Texas Project Units 3 and 4)

This appeal arises from an “Order Imposing Procedures for Access to [SUNSI] and Safeguards Information for Contention Preparation” dated February 13, 2009, which was included as part of a Federal Register notice providing an opportunity to petition for leave to intervene in a hearing on the application for a combined license for the South Texas Project Units 3 and 4 in Matagorda County, Texas. See 74 FR 7943 (Feb. 20, 2009). By e-mail submission dated March 2, 2009, several individuals requested access to SUNSI material. By letter dated March 12, 2009, the NRC Staff denied the requests. On March 17, 2009, the requesters appealed the Staff's determination.

The Board is comprised of the following Administrative Judges:

E. Roy Hawkens, Chair, Atomic Safety and Licensing Board Panel, U.S. Nuclear Regulatory Commission, Washington, DC 20555-0001.

Anthony J. Baratta, Atomic Safety and Licensing Board Panel, U.S. Nuclear Regulatory Commission, Washington, DC 20555-0001.

Charles N. Kelber, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 27th day of March 2009.
E. Roy Hawkens,
Chief Administrative Judge, Atomic Safety and Licensing Board Panel.

[FR Doc. E9-7418 Filed 4-1-09; 8:45 am]

BILLING CODE 7590-01-P